DEPARTMENT OF HEALTH AND HUMAN SERVICES

Administration on Aging

[Program Announcement No. AoA-02-03]

Fiscal Year 2002 Program Announcement; Availability of Funds and Notice Regarding Applications

AGENCY: Administration on Aging, HHS.

ACTION: Announcement of availability of funds and request for applications.

SUMMARY: The Administration on Aging (AoA) announces that under this program announcement it will hold a competition for “Senior Medicare Patrol Projects” for up to 33 projects at a federal share of approximately $160,000 per year for a period of three years.

Purpose of Grant Awards: The purpose of these projects is to test the best ways of using the skills of retired nurses, doctors, accountants and other professionals to train seniors to serve as expert resources to detect and stop health care error, fraud and abuse.

Eligibility for Grant Awards and Other Requirements: Eligibility for grant awards is limited to public state and local agencies or nonprofit agencies, organizations and institutions in the following states and jurisdictions: Alaska, Alabama, Arkansas, Arizona, Colorado, Connecticut, District of Columbia, Delaware, Florida, Georgia, Idaho, Indiana, Kansas, Massachusetts, Maine, Michigan, Montana, New Mexico, Nevada, North Dakota, Ohio, Oklahoma, Oregon, Puerto Rico, Texas, Utah, Vermont, Virginia, and Washington—to carry out cooperative agreement awards to train retired persons to serve in their communities as volunteer expert resources and educators in combating health care error, fraud, and abuse. Faith-based organizations are eligible to apply from the states and jurisdictions listed above.

Grantees are required to provide a 25 percent non-federal match.

DATES: The deadline date for the submission of applications is May 3, 2002.

ADDRESSES: Application kits are available by writing to the Department of Health and Human Services, Administration on Aging, Office of Consumer Choice and Protection, 330 Independence Avenue, SW, Room 4278 Washington, DC 20201. For further information, please contact Doris Summey or Barbara Lewis, at (202) 619-3775 or (202) 619-1351. Applications must be mailed or hand-delivered to the Office of Grants Management at the same address. Applicants should notify AoA by email or fax when the application is mailed. Instructions for electronic mailing of grant applications are available at http://www.aoa.gov/egrants

Dated: March 13, 2002.
Josefina G. Carbonell,
Assistant Secretary for Aging.

[FR Doc. 02-6618 Filed 3-18-02; 8:45 am]

BILLING CODE 4154-01-P